INTER-AMERICAN FOUNDATION

Guidance on Referrals for Potential Criminal Enforcement

AGENCY: Inter-American Foundation.

ACTION: Notice.

SUMMARY: On May 9, 2025, the President signed Executive Order (E.O.) 14294, Fighting Overcriminalization in Federal Regulations. Section 7 of the Executive Order requires each agency to publish guidance in the Federal Register that describes the agency's plan to address criminally liable regulatory offenses. None of the statutes or regulations that the Inter-American Foundation (IAF) administers carry criminal penalties for violations. The IAF supports locally led development across Latin American and the Caribbean making America and the region more prosperous, peaceful, and democratic.

FOR FURTHER INFORMATION CONTACT: Nicole Stinson, Associate General Counsel, Inter-American Foundation, 1331 Pennsylvania Ave. NW, Suite 300 South, Washington, DC 20004, at (202) 683-7117.

Nichole Skoyles,
General Counsel, Inter-American Foundation.

[FR Doc. 2025-16874 Filed 9-2-25; 8:45 am]

BILLING CODE 7025-01-P